ENVIRONMENTAL PROTECTION AGENCY

[FRL-9939-18-ORD; Docket ID No. EPA-HQ-ORD-2013-0357]

Draft Integrated Science Assessment for Sulfur Oxides—Health Criteria

AGENCY: Environmental Protection Agency (EPA).

ACTION: Notice; public comment period.

SUMMARY: The Environmental Protection Agency (EPA) is announcing a 60-day public comment period for the draft document titled, “External Review Draft Integrated Science Assessment for Sulfur Oxides—Health Criteria” (EPA/600/R-15/066). The draft document was prepared by the National Center for Environmental Assessment (NCEA) within the EPA's Office of Research and Development as part of the review of the primary (health-based) National Ambient Air Quality Standards (NAAQS) for sulfur dioxide (SO2). The Integrated Science Assessment (ISA), in conjunction with additional technical and policy assessments, provides the scientific basis for the EPA's decisions on the adequacy of the current NAAQS and the appropriateness of possible alternative standards. EPA intends to develop a separate ISA as part of an independent review for the secondary (welfare-based) NAAQS for oxides of nitrogen and sulfur.

EPA is releasing this draft document to seek review by the Clean Air Scientific Advisory Committee (CASAC) and the public (meeting date and location to be specified in a separate Federal Register notice). This draft document is not final as described in EPA's information quality guidelines, and it does not represent, and should not be construed to represent, Agency policy or views. When revising the document, EPA will consider any public comments submitted during the 60-day comment period in response to this notice.

DATES: The 60-day public comment period begins on November 24, 2015, and ends on January 25, 2016. Comments must be received on or before January 25, 2016.

ADDRESSES: The “External Review Draft Integrated Science Assessment for Sulfur Oxides—Health Criteria” will be available primarily via the Internet on EPA's Integrated Science Assessment for Sulfur Dioxide (Health Criteria) home page at http://www2.epa.gov/isa/integrated-science-assessment-isa-sulfur-dioxide-health-criteria or the public docket at http://www.regulations.gov, Docket ID: EPA-HQ-ORD-2013-0357. A limited number of CD-ROM copies will be available. Contact Ms. Marieka Boyd by phone: 919-541-0031; fax: 919-541-5078; or email: boyd.marieka@epa.gov to request a CD-ROM, and please provide your name, your mailing address, and the document title, “External Review Draft Integrated Science Assessment for Sulfur Oxides—Health Criteria” to facilitate processing of your request.

FOR FURTHER INFORMATION CONTACT: For information on the public comment period, contact the ORD Docket at the EPA Headquarters Docket Center; telephone: 202-566-1752; facsimile: 202-566-9744; or email: Docket_ORD@epa.gov.

For technical information, contact Dr. Tom Long, NCEA; telephone: 919-541-1880; facsimile: 919-541-1818; or email: long.tom@epa.gov.

SUPPLEMENTARY INFORMATION:

I. Information About the Document

Section 108(a) of the Clean Air Act directs the Administrator to identify certain pollutants which, among other things, “cause or contribute to air pollution which may reasonably be anticipated to endanger public health or welfare” and to issue air quality criteria for them. These air quality criteria are to “accurately reflect the latest scientific knowledge useful in indicating the kind and extent of all identifiable effects on public health or welfare which may be expected from the presence of [a] pollutant in the ambient air. . . .” Under section 109 of the Act, EPA is then to establish NAAQS for each pollutant for which EPA has issued criteria. Section 109(d) of the Act subsequently requires periodic review and, if appropriate, revision of existing air quality criteria to reflect advances in scientific knowledge on the effects of the pollutant on public health or welfare. EPA is also required to review and, if appropriate, revise the NAAQS, based on the revised air quality criteria (for more information on the NAAQS review process, see http://www.epa.gov/ttn/naaqs/review.html).

Sulfur oxides are one of six criteria pollutants for which EPA has established NAAQS. Periodically, EPA reviews the scientific basis for these standards by preparing an ISA (formerly called an Air Quality Criteria Document). The ISA, in conjunction with additional technical and policy assessments, provides the scientific basis for the EPA's decisions on the adequacy of the current NAAQS and the appropriateness of possible alternative standards. The CASAC, an independent science advisory committee whose review and advisory functions are mandated by Section 109(d)(2) of the Clean Air Act, is charged (among other things) with independent scientific review of the EPA's air quality criteria.

On May 10, 2013 (78 FR 27387), EPA formally initiated its current review of the air quality criteria for the health effects of sulfur oxides and the primary (health-based) SO2 NAAQS, requesting the submission of recent scientific information on specified topics. EPA held a workshop on June 12 and 13, 2013, to discuss with invited scientific experts, both internal and external to the EPA, key science and policy issues relevant to the review of the health effects of sulfur oxides (78 FR 27387). These science and policy issues were incorporated in EPA's “Integrated Review Plan for the Primary National Ambient Air Quality Standard for Sulfur Dioxide” (EPA-452/R-14-007), which was finalized in October 2014 with a prior draft available for public comment (79 FR 14035) and discussion by the CASAC via publicly accessible teleconference consultations (79 FR 16325, 79 FR 30137, 79 FR 34739). On June 23-24, 2014, EPA held a workshop to discuss, with invited internal and external scientific experts, initial draft materials prepared in the development of the ISA (79 FR 33750).

The “External Review Draft Integrated Science Assessment for Sulfur Oxides—Health Criteria” will be discussed at a public meeting for review by CASAC and the public. In addition to the public comment period announced in this notice, the public will have an opportunity to address CASAC. A separate Federal Register notice will inform the public of the exact date and time of the CASAC meeting and of the procedures for public participation.

II. How To Submit Technical Comments to the Docket at www.regulations.gov

Submit your comments, identified by Docket ID No. EPA-HQ-ORD-2013-0357, by one of the following methods:

• www.regulations.gov: Follow the on-line instructions for submitting comments.

• Email: Docket_ORD@epa.gov.

• Fax: 202-566-9744.

• Mail: U.S. Environmental Protection Agency, EPA Docket Center (ORD Docket), Mail Code: 28221T, 1200 Pennsylvania Avenue NW., Washington, DC 20460. The phone number is 202-566-1752.

• Hand Delivery: The ORD Docket is located in the EPA Headquarters Docket Center, EPA West Building, Room 3334, 1301 Constitution Avenue NW., Washington, DC. The EPA Docket Center Public Reading Room is open from 8:30 a.m. to 4:30 p.m., Monday through Friday, excluding legal holidays. The telephone number for the Public Reading Room is 202-566-1744. Such deliveries are only accepted during the docket's normal hours of operation, and special arrangements should be made for deliveries of boxed information. If you provide comments by mail or hand delivery, please submit three copies of the comments. For attachments, provide an index, number pages consecutively with the comments, and submit an unbound original and three copies.

Instructions: Direct your comments to Docket ID No. EPA-HQ-ORD-2013-0357. Please ensure that your comments are submitted within the specified comment period. Comments received after the closing date will be marked “late,” and may only be considered if time permits. It is the EPA's policy to include all comments it receives in the public docket without change and to make the comments available online at www.regulations.gov, including any personal information provided, unless a comment includes information claimed to be Confidential Business Information (CBI) or other information whose disclosure is restricted by statute. Do not submit information through www.regulations.gov or email that you consider to be CBI or otherwise protected. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses. For additional information about the EPA's public docket visit the EPA Docket Center homepage at http://www2.epa.gov/dockets.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the ORD Docket in the EPA Headquarters Docket Center.

Dated: November 6, 2015.
Mary A. Ross,
Deputy Director, National Center for Environmental Assessment.

[FR Doc. 2015-29800 Filed 11-23-15; 8:45 am]

BILLING CODE 6560-50-P